DEPARTMENT OF AGRICULTURE

Animal and Plant Health Inspection Service

[Docket No. APHIS-2007-0156]

Pioneer Hi-Bred International, Inc.; Availability of Petition and Environmental Assessment for Determination of Nonregulated Status for Genetically Engineered High-oleic Soybeans

AGENCY: Animal and Plant Health Inspection Service, USDA.

ACTION: Notice; availability of petition and extension of comment period.

SUMMARY: We are advising the public that the Animal and Plant Health Inspection Service is extending the public comment period on a petition from Pioneer Hi-Bred International, Inc., seeking a determination of nonregulated status for soybean designated as transformation event 305423, which has been genetically engineered to have higher levels of oleic acid and lower levels of linoleic and linolenic acids in their oil. Due to an Agency oversight, an incorrect version of the Pioneer petition was originally posted on the Internet for review and comment. With this notice, we are advising the public that the correct version of the petition has been posted and is available for review and comment. We are also extending the comment period for the petition, the draft environmental assessment, and the plant pest risk assessment in order to provide the public a full 60 days to consider the petition for determination of nonregulated status and the supporting documents associated with that petition.

DATES: We will consider all comments that we receive on or before December 28, 2009.

ADDRESSES: You may submit comments by either of the following methods:

• Federal eRulemaking Portal: Go to (http://www.regulations.gov/fdmspublic/component/main?main=DocketDetail&d=APHIS-2007-0156) to submit or view comments and to view supporting and related materials available electronically.

• Postal Mail/Commercial Delivery: Please send two copies of your comment to Docket No. APHIS-2007-0156, Regulatory Analysis and Development, PPD, APHIS, Station 3A-03.8, 4700 River Road Unit 118, Riverdale, MD 20737-1238. Please state that your comment refers to Docket No. APHIS-2007-0156.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Dr. Karen Green, Biotechnology Regulatory Services, APHIS, 4700 River Road Unit 147, Riverdale, MD 20737-1236; (301) 734-0672, email: (karen.c.green@aphis.usda.gov). To obtain copies of the petition or the draft environmental assessment, contact Ms. Cindy Eck at (301) 734-0667, email: (cynthia.a.eck@aphis.usda.gov). The petition, the draft environmental assessment, and the plant pest risk assessment are also available on the Internet at (http://www.aphis.usda.gov/brs/aphisdocs/06_35401p.pdf), (http://www.aphis.usda.gov/brs/aphisdocs/06_35401p_ea.pdf), and (http://www.aphis.usda.gov/brs/aphisdocs/06_35401p_pra.pdf).

SUPPLEMENTARY INFORMATION:

Background

In a notice¹ published in the Federal Register on September 2, 2009 (74 FR 45413-45415, Docket No. APHIS-2007-0156), the Animal and Plant Health Inspection Service (APHIS) announced the availability of a petition from Pioneer Hi-Bred International, Inc., seeking a determination of nonregulated status for soybean designated as transformation event 305423, which has been genetically engineered to have higher levels of oleic acid and lower levels of linoleic and linolenic acids in their oil. In that notice, we indicated to the public that the petition, a draft environmental assessment, and a plant pest risk assessment were available on the Internet, in our Agency reading room, and from the person listed under FOR FURTHER INFORMATION CONTACT.

¹To view the notice, petition, draft environmental assessment, plant pest risk assessment, and any comments we have received, go to (http://www.regulations.gov/fdmspublic/component/main?main=DocketDetail&d=APHIS-2007-0156).

Due to an Agency oversight, an incorrect version of the Pioneer petition was originally posted on the Internet for review and comment. With this notice, we are advising the public that the correct version of the petition has been posted and is available for review and comment. We are also extending the comment period for the petition, the draft environmental assessment, and the plant pest risk assessment in order to provide the public a full 60 days to consider the petition for determination of nonregulated status and the supporting documents associated with that petition. This action will allow interested persons additional time to prepare and submit comments.

After the comment period closes, APHIS will review all written comments received during the comment period and any other relevant information. All public comments received regarding the petition and draft environmental assessment will be available for public review. After reviewing and evaluating the comments on the petition, draft environmental assessment, and other data, APHIS will furnish a response to the petitioner, either approving or denying the petition. APHIS will then publish a notice in the Federal Register announcing the regulatory status of Pioneer’s 305423 soybean and the availability of APHIS’ written decision.

Authority: 7 U.S.C. 7701-7772 and 7781-7786; 31 U.S.C. 9701; 7 CFR 2.22, 2.80, and 371.3.

Done in Washington, DC, this 19th day of October 2009.

Kevin Shea,
Acting Administrator, Animal and Plant Health Inspection Service.

[FR Doc. E9-25686 Filed 10-23-09; 8:45 am]

BILLING CODE 3410-34-S